DEPARTMENT OF THE INTERIOR

Office of the Secretary

Privacy Act of 1974; as Amended; Deletion of an Existing System of Records

AGENCY: Office of the Secretary, Department of the Interior.

ACTION: Proposed deletion of an existing system of records.

SUMMARY: In accordance with the Privacy Act of 1974 (5 U.S.C. 552a), the Office of the Secretary of the Department of the Interior is issuing public notice of its intent to delete an existing Privacy Act system of records notice, Interior, DOI-15, “Authenticated Computer Access and Signature System.” It was previously published in the Federal Register on January 5, 2005 (70 FR 1262). Records covered by this notice are being incorporated into an amendment of Interior, OS-45, “Security Clearance Files and Other Reference Files,” which is being updated to implement Homeland Security Presidential Directive 12 (HSPD-12), and is being renamed and renumbered as Interior, DOI-45, “HSPD-12: Identity Management System and Personnel Security Files.” HSPD-12 requires Federal agencies to use a common identification credential for both logical and physical access to federally controlled facilities and information systems.

DATES: Effective Date: 5 U.S.C. 552a(e)(11) requires that the public be provided a 30-day period in which to comment on the agency's intended use of the information in the system of records. The Office of Management and Budget, in its Circular A-130, requires an additional 10-day period (for a total of 40 days) in which to make these comments. Because records covered by this notice are still being collected and maintained by the Department of the Interior, this deletion notice will be effective at the end of the comment period for Interior, DOI-45, HSPD-12: “Identity Management System and Personnel Security Files,” which is being published concurrently with this deletion notice, unless comments are received which would require a contrary determination vis-à-vis Interior, DOI-45. Should the Department receive comments that require that it republish Interior, DOI-45, this deletion notice will be effective on the date on which the revised notice for Interior, DOI-45 becomes effective.

FOR FURTHER INFORMATION CONTACT: Sue Ellen Sloca, Office of the Secretary Privacy Act Officer, 1951 Constitution Avenue, NW., MS-120 SIB, Washington, DC 20240, at 202-208-6045, or by e-mail to sue_ellen_sloca@nbc.gov.

Signed: March 7, 2007.
Sue Ellen Sloca,
Office of the Secretary Privacy Act Officer.

[FR Doc. E7-4413 Filed 3-9-07; 8:45 am]

BILLING CODE 4310-RK-P